DEPARTMENT OF HEALTH AND HUMAN SERVICES

Food and Drug Administration

[Docket No. FDA-2009-D-0347]

Draft Guidance for Industry: Guide to Minimize Microbial Food Safety Hazards of Melons; Availability; Correction

AGENCY: Food and Drug Administration, HHS.

ACTION: Notice; correction.

SUMMARY: The Food and Drug Administration is correcting a notice that appeared in the Federal Register of August 3, 2009 (74 FR 38437). The document announced the availability of a draft guidancet entitled “Guidance for Industry: Guide to Minimize Microbial Food Safety Hazards of Melons.” The document was published with an incorrect date for submitting written or electronic comments on the draft guidance. This document corrects that error.

FOR FURTHER INFORMATION CONTACT: Willette Crawford, Center for Food Safety and Applied Nutrition (HFS-317), Food and Drug Administration, 5100 Paint Branch Pkwy., College Park, MD 20740, 301-436-1111.

SUPPLEMENTARY INFORMATION: In FR Doc. E9-18452, appearing on page 38437 in the Federal Register of Wednesday, August 3, 2009, the following correction is made:

On page 38437, in the third column, in the DATES section, in the eighth line, “October 2, 2009” is corrected to read “November 2, 2009”.

Dated: August 17, 2009.
David Horowitz,
Assistant Commissioner for Policy.

[FR Doc. E9-20102 Filed 8-20-09; 8:45 am]

BILLING CODE 4160-01-S